DEPARTMENT OF COMMERCE

National Oceanic and Atmospheric Administration

RIN 0648-XE780

Pacific Fishery Management Council; Public Meetings and Hearings

AGENCY: National Marine Fisheries Service (NMFS), National Oceanic and Atmospheric Administration (NOAA), Commerce.

ACTION: Notice of public meetings and hearings.

SUMMARY: The Pacific Fishery Management Council (Pacific Council) has begun the five-year review of its groundfish trawl catch share program, as required by the Magnuson Stevens Fishery Management and Conservation Act. It will also begin a concurrent review of its groundfish inter-sector allocations. This document announces the dates and locations of Pacific Council public hearings that will inform Council decisions on the content and focus for the review (review plan).

DATES: The hearings will begin on Wednesday, August 31, 2016, and end on Thursday, September 29, 2016. Written comments must be received by 5 p.m. on October 18, 2016. For specific hearing dates and times, see SUPPLEMENTARY INFORMATION.

ADDRESSES: Written comments should be sent to Mr. Herb Pollard, Chair, Pacific Fishery Management Council, 7700 NE. Ambassador Place, Suite 101, Portland, OR 97220-1384, telephone: 503-820-2280 (voice) or 503-820-2299 (fax). Comments can also be submitted via email at PFMC.comments@noaa.gov. For specific hearing locations, see SUPPLEMENTARY INFORMATION.

Council Address: Pacific Fishery Management Council, 7700 NE. Ambassador Place, Suite 101, Portland, OR 97220.

FOR FURTHER INFORMATION CONTACT: Mr. Jim Seger, telephone: 503-820-2416.

SUPPLEMENTARY INFORMATION:

Agenda

Information on the review process is available from the Council Web site (www.pcouncil.org) on the five-year review Web page (http://tinyurl.com/hjkmvw6). Comment from the hearings will be summarized and provided to the Council at its November 2016 meeting, at which time the Council will finalize its review plan. Written comments may also be submitted and should be received by 5 p.m. on October 18, 2016, in order to be considered at the November Council meeting. Results of the catch share program review are expected to be published in the following year.

Thursday, August 31, 2016, Through Thursday, September 29, 2016

Public hearings will be held to receive comments on the content and focus for the review. Written comments received at the public hearings and a summary of oral comments at the hearings will be provided to the Pacific Council at its November 2016 meeting.

All public hearings begin at 7 p.m. at the following locations:

1. August 31, 2016: Marriott Courtyard, San Luis Obispo Room, 1605 Calle Joaquin Road, San Luis Obispo, CA 93405, telephone 805-786-4200.

2. September 1, 2016: Half Moon Bay Lodge, Club Room, 2400 Cabrillo Hwy. South, Half Moon Bay, CA 94019, telephone 650-726-9000.

3. September 6, 2016: City of Fort Bragg. Town Hall, 363 N. Main Street, Fort Bragg CA 95437, telephone 707-961-2823.

4. September 7, 2016: Red Lion Eureka, Evergreen Room, 1929 Fourth Street, Eureka, CA 95501, telephone 707-445-0844.

5. September 8, 2016: Red Lion Hotel, South Umpqua Room, 1313 North Bayshore Drive, Coos Bay, OR 97420, telephone 541-267-4141.

6. September 12, 2016: Chateau Westport, Beach Room, 710 West Hancock, Westport, WA 98595, telephone 360-268-9101.

7. September 13, 2016: Sheraton Seattle Hotel, Diamond Room, 1400 Sixth Avenue, Seattle, WA 98101, telephone 206-621-9000.

8. September 28, 2016: Comfort Inn and Suites, Meeting Room (no name), 3420 Leif Erickson Drive, Astoria, OR 97103, telephone 503-325-2000.

9. September 29, 2016: Agate Beach Inn, Jasper Room, 3019 N. Coast Hwy., Newport, OR 97365, telephone 541-265-9411.

No actions will be taken at the hearings.

Special Accommodations

These public hearings are physically accessible to people with disabilities. Requests for sign language interpretation or other auxiliary aids should be directed to Mr. Kris Kleinschmidt, at 503-820-2280 (voice), or 503-820-2299 (fax) at least five days prior to the meeting date.

Authority: 16 U.S.C. 1801 et seq.

Dated: August 2, 2016.
Tracey L. Thompson,
Acting Director, Office of Sustainable Fisheries, National Marine Fisheries Service.

[FR Doc. 2016-18692 Filed 8-5-16; 8:45 am]

BILLING CODE 3510-22-P